DEPARTMENT OF THE INTERIOR

Bureau of Land Management

[LLIDI03000.L12200000.AL0000]

Notice of Availability of Travel Map, Challis Field Office, Idaho

AGENCY: Bureau of Land Management, Interior.

ACTION: Notice of availability.

SUMMARY: The Bureau of Land Management (BLM) announces the availability of a travel management map depicting designated roads, vehicle ways and trails on public lands managed by the BLM Challis Field Office, Idaho. The map describes seasonal closure areas and trails and the daytime use restriction at the Challis Bridge Recreation Site in Idaho.

SUPPLEMENTARY INFORMATION: The BLM Challis Field Office manages nearly 800,000 acres of public lands, principally in Custer County, Idaho. The Challis Field Office completed its Resource Management Plan (RMP) in 1999. This RMP recommended that the Field Office complete a Travel Management Plan to administer all aspects of motorized and non-motorized travel in the field office. The Challis Travel Management Plan was approved in June of 2008.

ADDRESSES: Copies of the map are available to the public by contacting the BLM Challis Field Office, 1151 Blue Mountain Road, Challis, Idaho 83226; by telephone at (208) 879-6200; or on the following Web site: http://www.blm.gov/id/st/en/fo/challis.html.

FOR FURTHER INFORMATION CONTACT: Please contact David Rosenkrance, Field Manager, at the Challis Field Office at the address and phone number listed above.

Dated: January 19, 2010.
David Rosenkrance,
Challis Field Manager.

[FR Doc. 2010-739 Filed 1-15-10; 8:45 am]

BILLING CODE 4310-GG-P